DEPARTMENT OF TRANSPORTATION

Office of the Secretary

[Order 2012-3-7; Docket DOT-OST-2012-0022]

Proposed Cancelation

of the Air Taxi Authority Of VIH Cougar Helicopters, Inc.

AGENCY: Department of Transportation.

ACTION: Notice of Order to Show Cause (Order 2012-3-7) Docket DOT-OST-2012-0022.

SUMMARY: The Department of Transportation is directing all interested persons to show cause why it should not issue an order finding that VIH Cougar Helicopters, Inc. is not a U.S. citizen as defined in 49 U.S.C. 40102(a)(15) and canceling its Part 298 exemption authority.

DATES: Persons wishing to file objections should do so no later than April 2, 2012. .

ADDRESSES: Objections and answers to objections should be filed in Docket DOT-OST-2012-0022 and addressed to U.S. Department of Transportation, Docket Operations, (M-30, Room W12-140), 1200 New Jersey Avenue SE., West Building Ground Floor, Washington, DC 20590, and should be served upon the parties listed in Attachment A to the order.

FOR FURTHER INFORMATION CONTACT: Mr. Damon D. Walker, Air Carrier Fitness Division (X-56, Room W86-465), U.S. Department of Transportation, 1200 New Jersey Avenue SE., Washington, DC 20590, (202) 366-7785.

Susan L. Kurland,
Assistant Secretary for Aviation and International Affairs.

[FR Doc. 2012-6408 Filed 3-30-12; 8:45 am]

BILLING CODE P